OFFICE OF THE UNITED STATES TRADE REPRESENTATIVE

Delaying Submission of the Small Business Report Under the Trade Facilitation and Trade Enforcement Act of 2015

AGENCY: Office of the United States Trade Representative.

ACTION: Notice.

SUMMARY: Pursuant to delegated authority, the U.S. Trade Representative is requiring the Chief Counsel for Advocacy of the Small Business Administration (SBA Advocacy) to delay submission of the report to Congress on the economic impacts on small businesses of the United States-Kenya trade agreement until negotiations conclude.

DATES: This notice is applicable on October 13, 2020.

FOR FURTHER INFORMATION CONTACT: Rosalyn Steward, Assistant Chief Counsel, SBA Office of Advocacy, at (202) 205-7013, or Christina Sevilla, Deputy Assistant U.S. Trade Representative for Small Businesses, at (202) 395- 9506.

SUPPLEMENTARY INFORMATION: The Trade Facilitation and Trade Enforcement Act of 2015 (TFTEA) (Pub. L. 114-125) requires SBA Advocacy to submit to Congress a report on the economic impacts of a covered trade agreement on small businesses not more than 180 days after convening an Interagency Working Group for the relevant trade agreement. See 15 U.S.C. 634c(b)(3)(A). The TFTEA authorizes the President to require SBA Advocacy to delay the submission of this report until after the relevant negotiation concludes so that the negotiations are not disrupted. See 15 U.S.C. 634c(b)(3)(B). The President has delegated this authority to the U.S. Trade Representative. Pursuant to this authority, the U.S. Trade Representative is requiring SBA Advocacy to delay the submission of the report for the United States-Kenya trade agreement negotiations until the negotiation has concluded, but not later than 30 days after the trade agreement is signed, provided that the delay allows SBA Advocacy to submit the report to the Congress not later than 45 days before the Senate or the House of Representatives acts to approve or disapprove the trade agreement.

Joseph Barloon,
General Counsel, Office of the United States Trade Representative.

[FR Doc. 2020-23084 Filed 10-16-20; 8:45 am]

BILLING CODE 3290-F1-P